DEPARTMENT OF LABOR

Employment and Training Administration

[NAFTA-05556]

Alfa Laval Inc., Formerly Known as Tri-Clover, Kenosha, Wisconsin; Notice of Negative Determination Regarding Application for Reconsideration

By application dated February 21, 2002, the International Association of Machinists and Aerospace Workers, Lodge 34 requested administrative reconsideration of the Department's negative determination regarding eligibility to apply for North American Free Trade Agreement-Transitional Adjustment Assistance (NAFTA-TAA), applicable to workers and former workers producing pumps and vales of the subject firm. The denial notice for pumps was signed on January 30, 2002, and was published in the Federal Register on February 13, 2002 (67 FR 6748). The denial notice for valves was signed on January 30, 2002 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The NAFTA-TAA petition, filed on behalf of workers at Alfa Laval, Inc., formerly known as Tri-Clover engaged in activities related to the production of pumps and valves was denied because criteria (3) and (4) were not met. Imports from Canada or Mexico did not contribute importantly to workers' separations. There was no shift in production of valves and pumps from the subject firm to Canada or Mexico during the relevant period. The investigation further revealed that during 2000, Tri-Clover was acquired by a company that also owned Alfa Laval. As both companies produced similar product lines, a strategic business decision was made to consolidate production among multiple facilities. Thus declines in sales, production and employment were attributable to eliminating excess capacity. Plant production of valves and pumps were scheduled to be shifted to other domestic locations during mid-2002. Of note, workers producing fittings at the same location were certified under the same NAFTA-TAA determination (NAFTA-05556). The three groups of workers were separately identifiable.

The petitioner alleges, that the workers producing valves and pumps and related support activities are also impacted by the planned shift in production of valves and pumps to Richmond, Virginia and other foreign countries. The company further states that the decision reached, regarding eligibility of workers engaged in activities related to the production of fittings, was based upon those jobs already being affected due to this area of production transferring outside the United States (Mexico). The petitioner further states that the shift (fittings) does not reflect nor include all of the jobs (valves & pumps) which have been or will be affected at the subject plant over the course of the planned shutdown of this facility.

Since the shift in subject plant production of fittings to Mexico occurred during the relevant period, that worker group was certified eligible for NAFTA-TAA under section 250 of the Trade Act of 1974. Shifts in the subject plant's production of valves and pumps were scheduled for a future period. Unless the shift actually occurred during the relevant period, it is not considered relevant to the petition filed.

Although workers producing fittings were certified eligible under NAFTA-TAA, the workers engaged in activities related to the production of valves and pumps are separately identifiable from the workers producing fittings and therefore cannot be considered eligible under the NAFTA-TAA certification for the workers producing fittings. That certification was based on a shift in subject plant production of fittings to Mexico during the relevant period.

To be considered eligible for NAFTA-TAA under Criterion (4), the product shifted to Mexico or Canada must be like or directly competitive with what the subject plant worker group produced. That was not the current event for the workers producing valves and pumps at the subject plant.

The petitioner further states that in relation to bumping “it is difficult, if not impossible, to identify the exact employees who will be affected as product is transitioned out of the facility.”

Workers engaged in the production of fittings including support activities related to the production of fittings are eligible to apply for NAFTA-TAA benefits. The Wisconsin Department of Workforce Development follows guidelines in making the final decision of individual eligibility for the NAFTA-TAA worker group engaged in the production of fittings and related support activities. The workers terminated producing valves and pumps, if they are bumped by a worker producing fittings, are eligible to apply for NAFTA-TAA under NAFTA-05556.

Conclusion

After review of the application for reconsideration and investigative findings, I conclude that there has been no error or misinterpretation of the law or of the facts which would justify reconsideration of the Department of Labor's prior decisions. Accordingly, the application is denied.

Signed at Washington, DC this 6th day of May 2002.
Edward A. Tomchick,
Director, Division of Trade Adjustment Assistance.

[FR Doc. 02-13948 Filed 6-3-02; 8:45 am]

BILLING CODE 4510-30-P